DEPARTMENT OF DEFENSE

Office of the Secretary

32 CFR Part 311

[Docket ID: DOD-2018-OS-0055]

Privacy Act of 1974; Implementation

AGENCY: Office of the Secretary of Defense, DoD.

ACTION: Notice of proposed rulemaking.

SUMMARY: The Office of the Secretary of Defense proposes to exempt some records maintained in DMDC 18 DoD, “Synchronized Predeployment and Operational Tracker Enterprise Suite (SPOT-ES) Records,” from subsection (d) of the Privacy Act. A system of records notice for this system has been published elsewhere in this issue of the Federal Register.

DATES: In accordance with 5 U.S.C. 553(b)(1), (2) and (3), the public is given a 30-day period in which to comment. Therefore, please submit any comments by September 20, 2018.

ADDRESSES: You may submit comments, identified by docket number and title, by any of the following methods:

• Federal Rulemaking Portal: http://www.regulations.gov. Follow the instructions for submitting comments.

• Mail: Department of Defense, Office of the Chief Management Officer, Directorate for Oversight and Compliance, 4800 Mark Center Drive, Mailbox #24, Suite 08D09, Alexandria, VA 22350-1700.

Instructions: All submissions received must include the agency name and docket number for this Federal Register document. The general policy for comments and other submissions from members of the public is to make these submissions available for public viewing on the internet at http://www.regulations.gov as they are received without change, including any personal identifiers or contact information.

FOR FURTHER INFORMATION CONTACT: Ms. Luz D. Ortiz, Chief, Records, Privacy and Declassification Division (RPDD), 1155 Defense Pentagon, Washington, DC 20311-1155, or by phone at (571) 372-0478.

SUPPLEMENTARY INFORMATION: This proposed modification to 32 CFR part 311 adds a new Privacy Act exemption rule for the Synchronized Redeployment and Operational Tracker Enterprise Suite (SPOT-ES), which is used at installations to manage, track, account for, monitor, and report on contracts, companies, and contractor employees supporting contingency operations, humanitarian assistance operations, peace operations, disaster relief operations, military exercises, events, and other activities that require contractor support. Contract scope, installations, and/or activities requiring contractor support as documented in SPOT-ES may be classified under Executive Order (E.O.) 13526, “Classified National Security Information.” Information classified under E.O. 13526, as implemented by DoD Manual (DoDM) 5200.01 Volume 1, and DoD Instruction (DoDI) 5200.01, may be exempt pursuant to 5 U.S.C. 552a(k)(1). Granting unfettered access to information that is properly classified pursuant to those authorities may cause damage to the national security.

Regulatory Procedures

Executive Order 12866, “Regulatory Planning and Review” and Executive Order 13563, “Improving Regulation and Regulatory Review”

Executive Orders 12866 and 13563 direct agencies to assess all costs and benefits of available regulatory alternatives and, if regulation is necessary, to select regulatory approaches that maximize net benefits (including potential economic, environmental, public health and safety effects, distribute impacts, and equity). Executive Order 13563 also emphasizes the importance of quantifying both costs and benefits, of reducing costs, of harmonizing rules, and of promoting flexibility. This rule is not a significant regulatory action under E.O. 12866.

Executive Order 13771, “Reducing Regulation and Controlling Regulatory Costs”

This proposed rule is not a deregulatory action but a modification to an existing rule.

2 U.S.C. Ch. 25, “Unfunded Mandates Reform Act”

This proposed rule is not subject to the Unfunded Mandates Reform Act (UMRA) (2 U.S.C. 1532) because it does not contain a federal mandate that may result in the expenditure by state, local, and tribal governments, in the aggregate, or by the private sector, of $100M or more in any one year.

Public Law 96-354, “Regulatory Flexibility Act” (5 U.S.C. Chapter 6)

It has been certified that this rule does not have a significant economic impact on a substantial number of small entities because it is concerned only with the administration of Privacy Act systems of records within DoD. A Regulatory Flexibility Analysis is not required.

Public Law 96-511, “Paperwork Reduction Act” (44 U.S.C. Chapter 35)

It has been determined that this rule does not impose additional information collection requirements on the public under the Paperwork Reduction Act of 1995 (44 U.S.C. 3501 et seq.).

Executive Order 13132, “Federalism”

Executive Order 13132 establishes certain requirements that an agency must meet when it promulgates a proposed rule (and subsequent final rule) that imposes substantial direct requirement costs on State and local governments, preempts State law, or otherwise has Federalism implications. This proposed rule will not have a substantial effect on State and local governments.

List of Subjects in 32 CFR Part 311

Privacy.

Accordingly, 32 CFR part 311 is proposed to be amended as follows:

PART 311—[AMENDED]

1. The authority citation for 32 CFR part 311 continues to read as follows:

Authority: 5 U.S.C. 552a.

2. Section 311.8 is amended by adding paragraph (c)(28) to read as follows:

§ 311.8 Procedures for exemptions.

* * * * *

(c) * * *

(28) System identifier and name: DMDC 18 DoD, Synchronized Predeployment and Operational Tracker Enterprise Suite (SPOT-ES) Records.

(i) Exemption: Information classified under E.O. 13526, as implemented by DoD 5200.1-R, may be exempt pursuant to 5 U.S.C. 552a(k)(1).

(ii) Authority: 5 U.S.C. 552a(k)(1).

(iii) Reasons: From subsection 5 U.S.C. 552a(d) because granting access to information that is properly classified pursuant to E.O. 13526, as implemented by DoD Manual 5200.01 Volume 1, and DoD Instruction 5200.01, may cause damage to the national security.

Dated: August 15, 2018.
Aaron T. Siegel,
Alternate OSD Federal Register Liaison Officer, Department of Defense.

[FR Doc. 2018-17954 Filed 8-20-18; 8:45 am]

BILLING CODE 5001-06-P